DEPARTMENT OF ENERGY

Federal Energy Regulatory Commission

[Docket No. RP00-342-004]

MIGC, Inc.; Notice of Compliance Filing

June 12, 2003.

Take notice that on June 9, 2003, MIGC, Inc. (MIGC) tendered for filing as part of its FERC Gas Tariff, First Revised Volume No.1, Third Revised Sheet No. 66A; Fourth Revised Sheet No. 69; and Fourth Revised Sheet No. 82A, to become effective May 1, 2003.

MIGC asserts that the purpose of this filing is to correct the pagination for three tariff sheets submitted in its May 23, 2003 compliance filing to comply with the Commission's Second Order on Compliance with Order No. 637 issued May 9, 2003 in Docket Nos. RP00-342-001 and RP00-342-002. MIGC states that it is filing a properly paginated version of the same tariff sheets and requests that the Commission accept the repaginated version in place of MIGC's version submitted on May 23, 2003.

Any person desiring to protest said filing should file a protest with the Federal Energy Regulatory Commission, 888 First Street, NE., Washington, DC 20426, in accordance with § 385.211 of the Commission's Rules and Regulations. All such protests must be filed in accordance with § 154.210 of the Commission's Regulations. Protests will be considered by the Commission in determining the appropriate action to be taken, but will not serve to make protestants parties to the proceedings. This filing is available for review at the Commission in the Public Reference Room or may be viewed on the Commission's Web site at http://www.ferc.gov using the “FERRIS” link. Enter the docket number excluding the last three digits in the docket number field to access the document. For assistance, please contact FERC Online Support at FERCOnlineSupport@ferc.gov or toll-free at (866) 208-3676, or TTY, contact (202) 502-8659. The Commission strongly encourages electronic filings. See 18 CFR 385.2001(a)(1)(iii) and the instructions on the Commission's Web site under the “e-Filing” link.

Protest Date: June 23, 2003.

Magalie R. Salas,
Secretary.

[FR Doc. 03-15428 Filed 6-18-03; 8:45 am]

BILLING CODE 6717-01-P